DEPARTMENT OF THE TREASURY

Submission for OMB Review; Comment Request

June 1, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 7, 2005, to be assured of consideration.

Internal Revenue Service (IRS)

OMB Number: 1545-0879.

Regulation Project Number: IA-195-78 Final.

Type of Review: Extension.

Title: Certain Returned Magazines, Paperbacks or Records.

Description: The regulations provide rules relating to an exclusion from gross income for certain returned merchandise. The regulations provide that in addition to physical return of the merchandise, a written statement listing certain information may constitute evidence of the return. Taxpayers who receive physical evidence of the return may, in lieu of retaining physical evidence, retain documentary evidence of the return. Taxpayers in the trade or business of selling magazines, paperbacks, or records, who elect to use a certain methods of accounting are affected.

Respondents: Business or other for-profit.

Estimated Number of Recordkeepers: 19,500.

Estimated Burden Hours Recordkeeper: 25 minutes.

Estimated Total Reporting/Recordkeeping Burden: 8,125 hours.

OMB Number: 1545-1269.

Regulation Project Number: PS-7-90 Final.

Type of Review: Extension.

Title: Nuclear Decommissioning Fund Qualification Requirements.

Description: If a taxpayer requests, in connection with a request for a schedule of ruling amounts, a ruling as to the classification of certain unincorporated organizations, the taxpayer is required to submit a copy of the documents establishing or governing the organization.

Respondents: Business or other for-profit.

Estimated Number of Respondents: 50.

Estimated Burden Hours Respondent: 3 hours.

Frequency of response: On occasion.

Estimated Total Reporting Burden: 150 hours.

OMB Number: 1545-1768.

Revenue Procedure Number: Revenue Procedure 2002-16.

Type of Review: Extension.

Title: Optional Election to Make Monthly § 706 Allocations.

Description: This revenue procedure allows certain partnerships with money market fund partners to make an optional election to close the partnership's books on a monthly basis with respect to the money market fund partners.

Respondents: Business or other for-profit.

Estimated Number of Respondents/Recordkeepers: 1,000.

Estimated Burden Hours Respondent/Recordkeeper: 30 minutes.

Frequency of response: Monthly, Other.

Estimated Total Reporting/Recordkeeping Burden: 500 hours.

OMB Number: 1545-1918.

Form Number: IRS Form 12885.

Type of Review: Extension.

Title: Supplement to OF-612, Optional Application for Federal Employment.

Description: Form 12885 is used as a supplement to the OF-612 to provide additional space for capturing work history.

Respondents: Individuals or households, Federal Government.

Estimated Number of Respondents: 24,823.

Estimated Burden Hours Respondent: 30 minutes.

Frequency of response: On occasion.

Estimated Total Reporting Burden: 12,406 hours.

OMB Number: 1545-1921.

Form Number: IRS Form 12114.

Type of Review: Extension.

Title: Continuation Sheet for Item #16 (Additional Information) OF-306, Declaration for Federal Employment

Description: Form 12114 is used as a continuation to the OF-306 to provide additional space for capturing additional information.

Respondents: Individuals or households, Federal Government.

Estimated Number of Respondents: 24,813.

Estimated Burden Hours Respondent: 15 minutes.

Frequency of response: On occasion.

Estimated Total Reporting Burden: 6,203 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Lois K. Holland,
Treasury PRA Clearance Officer.

[FR Doc. 05-11278 Filed 6-6-05; 8:45 am]

BILLING CODE 4830-01-P